DEPARTMENT OF ENERGY

Federal Energy Regulatory Commission

Combined Notice of Filings #1

June 09, 2010.

Take notice that the Commission received the following electric rate filings:

Docket Numbers: ER09-1142-007.

Applicants: New York Independent System Operator Inc.

Description: Explanation of how the New York Independent System Operator, Inc's proposed Tariff revisions that are pending in address the requirements of the Commission's May 6, 2010 Order.

Filed Date: 06/02/2010.

Accession Number: 20100602-5096.

Comment Date: 5 p.m. Eastern Time on Wednesday, June 23, 2010.

Docket Numbers: ER10-1222-001.

Applicants: DTE East China, LLC.

Description: DTE East China, LLC submits tariff filing per 35: DTE East China—Baseline Tariff Withdraw to be effective 5/14/2010.

Filed Date: 06/08/2010.

Accession Number: 20100608-5068.

Comment Date: 5 p.m. Eastern Time on Tuesday, June 29, 2010.

Docket Numbers: ER10-1299-001.

Applicants: Westar Energy, Inc.

Description: Westar Energy, Inc submits an Amendment to the Interconnection and Balancing Area Services Agreement with Midwest Energy, Inc, Rate Schedule FERC No 340.

Filed Date: 06/08/2010.

Accession Number: 20100609-0203.

Comment Date: 5 p.m. Eastern Time on Tuesday, June 29, 2010.

Docket Numbers: ER10-1406-000.

Applicants: Lake Cogen, Ltd.

Description: Lake Cogen, Ltd. submits its baseline tariff filing, FERC Electric Tariff, Original Volume No 1, to be effective 6/9/2010.

Filed Date: 06/09/2010.

Accession Number: 20100609-5000.

Comment Date: 5 p.m. Eastern Time on Wednesday, June 30, 2010.

Docket Numbers: ER10-1407-000.

Applicants: Florida Power Corporation.

Description: Florida Power Corporation submits their Interconnection and Operating Agreement with Tampa Electric Company for the Dade City Substation Interconnection, dated June 1, 2010.

Filed Date: 06/08/2010.

Accession Number: 20100609-0202.

Comment Date: 5 p.m. Eastern Time on Tuesday, June 29, 2010.

Docket Numbers: ER10-1408-000.

Applicants: California Independent System Operator Corporation.

Description: California Independent System Operator Corporation submits a Notice of Termination relation to a Large Generator Interconnection Agreement.

Filed Date: 06/08/2010.

Accession Number: 20100609-0201.

Comment Date: 5 p.m. Eastern Time on Tuesday, June 29, 2010.

Docket Numbers: ER10-1409-000.

Applicants: Central Hudson Gas & Electric Corporation.

Description: Central Hudson Gas & Electric Corp submits an executed Small Generator Interconnection Agreement with West Delaware Hydro Associates LP dated 5/27/10 etc.

Filed Date: 06/09/2010.

Accession Number: 20100609-0204.

Comment Date: 5 p.m. Eastern Time on Wednesday, June 30, 2010.

Take notice that the Commission received the following electric securities filings:

Docket Numbers: ES10-48-000.

Applicants: Trans-Allegheny Interstate Line Company.

Description: Application of Trans-Allegheny Interstate Line Company for authorization under Section 204 of the Federal Power Act to issue or borrow up to $300 Million in Short-Term Debt or Long-Term Debt to fund capital expenditures etc.

Filed Date: 06/08/2010.

Accession Number: 20100608-5094.

Comment Date: 5 p.m. Eastern Time on Tuesday, June 29, 2010.

Docket Numbers: ES10-49-000.

Applicants: Entergy Power, LLC.

Description: Application of Entergy Power, LLC, for Authorizations under FPA Section 204.

Filed Date: 06/08/2010.

Accession Number: 20100608-5110.

Comment Date: 5 p.m. Eastern Time on Tuesday, June 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-14855 Filed 6-18-10; 8:45 am]

BILLING CODE 6717-01-P